DEPARTMENT OF ENERGY

Federal Energy Regulatory Commission

[Docket No. AD24-10-000]

Reliability Technical Conference; Notice Inviting Post-Technical Conference Comments

On Wednesday, October 16, 2024, the Federal Energy Regulatory Commission (Commission) convened its annual Commissioner-led Reliability Technical Conference to discuss policy issues related to the reliability and security of the Bulk-Power System.

All interested persons are invited to file post-technical conference comments to address issues raised during the technical conference or identified in the Second Supplemental Notice for this Technical Conference issued on October 7, 2024. Commenters are invited to reference material previously filed in this docket but are encouraged to avoid repetition or replication of their previous comments. Comments must be submitted on or before 30 days from the date of this Notice.

Comments, identified by docket number, may be filed electronically or paper-filed. Electronic filing through https://www.ferc.gov is preferred. Documents must be filed in acceptable native applications and print-to-.pdf, but not in scanned or picture format. Instructions are available on the Commission's website: http://www.ferc.gov/docs-filing/efiling.asp.

Although the Commission strongly encourages electronic filing, documents may also be paper-filed. To paper-file, submissions sent via the U.S. Postal Service must be addressed to: Federal Energy Regulatory Commission, Office of the Secretary, 888 First Street NE, Washington, DC 20426. Submissions sent via any other carrier must be addressed to:

Federal Energy Regulatory Commission, Office of the Secretary, 12225 Wilkins Avenue, Rockville, Maryland 20852.

For more information about this Notice, please contact:

Lodie White (Technical Information), Office of Energy Reliability, (202) 502-8453, Lodie.White@ferc.gov.

Hampden T. Macbeth (Legal Information), Office of the General Counsel, (202) 502-8957, Hampden.Macbeth@ferc.gov.

Dated: October 28, 2024.
Debbie-Anne A. Reese,
Secretary.

[FR Doc. 2024-25513 Filed 11-1-24; 8:45 am]

BILLING CODE 6717-01-P